NATIONAL CREDIT UNION ADMINISTRATION

12 CFR Part 790

RIN 3133-AE81

Agency Reorganization; Correction

AGENCY: National Credit Union Administration (NCUA).

ACTION: Final rule; correction.

SUMMARY: The NCUA is correcting a final rule that appeared in the Federal Register on December 20, 2017. The document implemented certain features of the NCUA reorganization that the NCUA Board announced earlier this year. This correction amends one reference within the document.

DATES: This correction is effective January 6, 2018.

FOR FURTHER INFORMATION CONTACT: Elizabeth Wirick, Senior Staff Attorney, Office of General Counsel, 1775 Duke Street, Alexandria, VA 22314 or telephone (703) 518-6540.

SUPPLEMENTARY INFORMATION: In FR Doc. 2017-27411, appearing on page 60290 in the Federal Register of Wednesday, December 20, 2017, the following corrections are made:

§ 790.2 [Corrected]

On page 60292, in the second column, in part 790, in amendment 10, the instruction “In § 790.2, revise the second sentence of paragraph (b)(6), paragraph (b)(12), the third sentence of paragraph (b)(13), and paragraph (b)(15) to read as follows:” is corrected to read “In § 790.2, revise the second sentence of paragraph (b)(6), paragraph (b)(12), the fourth sentence of paragraph (b)(13), and paragraph (b)(15) to read as follows:”

By the National Credit Union Administration Board on December 21, 2017.
Gerard Poliquin,
Secretary of the Board

[FR Doc. 2017-27962 Filed 12-26-17; 8:45 am]

BILLING CODE 7535-01-P